DEPARTMENT OF THE INTERIOR

Bureau of Land Management

[CA-670-00-1220-00, C00-0927 WHA-ADR]

Closure to Motorized Vehicle Use in the Imperial Sand Dunes Recreation Area

AGENCY: Bureau of Land Management, Department of the Interior, El Centro Field Office, California Desert District.

ACTION: Pursuant to Title 43 Code of Federal Regulations 8364.1, the Bureau of Land Management will temporarily close parts of federal land in Imperial County. The public land areas described below which are within the Imperial Sand Dunes Recreation Management Area are closed to off-highway vehicle and other vehicular use effective no sooner than 30 days from the date of this notice. This closure is temporary pending completion of programmatic consultation on the California Desert Conservation Area Plan between the Bureau of Land Management (BLM) and the U. S. Fish and Wildlife Service (FWS). The subject of consultation is the effect of vehicular use in the Imperial Sand Dunes Recreation Area to populations of the Peirson's milk-vetch plant(Astragalus magdalenae var. peirsonii), designated in 1998 by the FWS as a threatened species under the Endangered Species Act.

SUMMARY: Under Title 43 CFR 8364.1(a) the authorized officer may issue closure and restriction orders to protect persons, property, and public lands and resources. The purpose of this closure is to prevent effects of vehicular use to the populations of Peirson's milk-vetch pending completion of formal consultation with the USFWS. The BLM has prepared a Biological Evaluation regarding the present management Peirson's milk-vetch populations of the Imperial Sand Dunes and submitted the evaluation with its request for formal consultation.

Any person who fails to comply with a closure or restriction order issued under this subpart may be subject to the penalties provided in 43 CFR § 8360.0-7 of this title.

Affected Lands

Parcel 1 is bounded on the southeasterly side by the North Algodones Wilderness Area, on the northeasterly side by Niland-Glamis Road, on the north side by a latitudinal line, and on the southwesterly side by the New Coachella Canal Road. Said parcel contains 3,800 acres more or less, and is more particularly described as follows:

Beginning at the northwesterly corner of the North Algodones Wilderness Area; thence southwesterly on a prolongation of the northwesterly line of the above mentioned wilderness area, approximately 300 feet to a line parallel with and 15.00 feet northeast of the center line of the New Coachella Canal Road (approximate geographic position: longitude 115.26404 degrees, latitude 33.06407 degrees); thence northwesterly, parallel with and 15.00 feet northeast of the center line of the New Coachella Canal Road, to a point at latitude 33.1038 degrees (approximate geographic position: longitude 115.31038 degrees, latitude 33.1038 degrees); thence east to a line parallel with and 20.00 feet southwesterly of the center line of Niland-Glamis Road (approximate geographic position: longitude 115.23364 degrees, latitude 33.1038 degrees); thence southeasterly, parallel with and 20.00 feet southwesterly of the center line of Niland-Glamis Road, to a prolongation of the northwesterly line of the North Algodones Wilderness Area (approximate geographic position: 115.23123 degrees, latitude 33.10230 degrees); thence southwesterly along said line of prolongation 85.00 feet to point 1 of the North Algodones Wilderness Area; thence continuing southwesterly along the northwesterly line of the wilderness boundary to the point of beginning.

Parcel 2 contains 2,000 acres more or less, and is more particularly described as follows:

Beginning at longitude 115.09392 degrees, latitude 32.92036 degrees; thence to longitude 115.10286 degrees, latitude 32.91969 degrees; thence to longitude 115.10916 degrees, latitude 32.92183 degrees; thence to longitude 115.11854 degrees, latitude 32.93341 degrees; thence to longitude 115.12616 degrees, latitude 32.93998 degrees; thence to longitude 115.11041 degrees, latitude 32.95332 degrees; thence to longitude 115.09628 degrees, latitude 32.95288 degrees; thence to longitude 115.09225 degrees, latitude 32.94338 degrees; thence to point of beginning.

Parcel 3 is bounded on the northeasterly side by Wash Road, on the north side by a latitudinal line, on the southwesterly side by the Sand Highway, and on the southeasterly side by a line falling northerly of Patton Valley. Said parcel contains 43,035 acres more or less, and is more particularly described as follows:

Beginning at the point of intersection of a line parallel with and 20.00 feet northeasterly of the northeasterly edge of the Sand Highway and a line parallel with and 150.00 feet northwesterly of the center line of Patton Valley Road (approximate geographic position: longitude 114.96653 degrees, latitude 32.76586 degrees); thence northwesterly, parallel with and 20.00 feet northeasterly of the northeasterly edge of the Sand Highway, to a point at latitude 32.90653 degrees (approximate geographic position: longitude 115.11257 degrees, latitude 32.90653 degrees); thence east to a line parallel with and 20.00 feet southwesterly of the center line of Wash Road (approximate geographic position: longitude 114.95415 degrees, latitude 32.90653 degrees); thence southeasterly, parallel with and 20.00 feet southwesterly of the center line of Wash Road, to a point at latitude 32.83805 degrees (approximate geographic position: longitude 114.86802 degrees, latitude 32.83805 degrees); thence southwesterly to a line parallel with and 150.00 feet northwesterly of the center line of Patton Valley Road, at latitude 32.78236 degrees (approximate geographic position: longitude 114.95298 degrees, latitude 32.78236 degrees); thence southwesterly, parallel with and 150.00 feet northwesterly of the center line of Patton Valley Road, to the point of beginning.

Parcel 4 is bounded on the southwesterly side by the Sand Highway, on the northwesterly side by Patton Valley Road, with the remainder being defined by longitude and latitude. Said parcel contains 310 acres more or less, and is more particularly described as follows:

Beginning at the point of intersection of a line parallel with and 20.00 feet northeasterly of the northeasterly edge of the Sand Highway and a line parallel with and 150 feet southeasterly of the center line of Patton Valley Road; thence northeasterly, parallel with and 150.00 feet southeasterly of the center line of Patton Valley Road, to a point at latitude 32.77713 degrees (approximate geographic position: longitude 114.95341 degrees, latitude 32.77713 degrees); thence easterly, leaving said road, to longitude 114.94770 degrees, latitude 32.77746 degrees; thence to longitude 114.94433 degrees, latitude 32.77629 degrees; thence to longitude 114.94401 degrees, latitude 32.77449 degrees; thence to longitude 114.94708 degrees, latitude 32.77218 degrees; thence to longitude 114.95472 degrees, latitude 32.76916 degrees; thence southwesterly to a line parallel with and 20.00 feet northeasterly of the northeasterly edge of the Sand Highway, at latitude 32.76222 degrees (approximate geographic position: longitude 114.96253 degrees, latitude 32.76222 degrees); thence northwesterly, parallel with and 20.00 feet northeasterly of the northeasterly edge of the Sand Highway, to the point of beginning.

Parcel 5 contains 160 acres more or less, and is more particularly defined as follows:

Beginning at longitude 114.91070 degrees, latitude 32.72160 degrees; thence to longitude 114.90878 degrees, latitude 32.72476 degrees; thence to longitude 114.88818 degrees, latitude 32.73669 degrees; thence to longitude 114.88740 degrees, latitude 32.73596 degrees; thence to longitude 114.88947 degrees, latitude 32.73446 degrees; thence to longitude 114.90607 degrees, 32.72473 degrees; thence to longitude 114.90562 degrees, 32.72310 degrees; thence to longitude 114.90739 degrees, 32.7286 degrees; thence to longitude 114.91026 degrees, 32.72092 degrees; thence to point of beginning.

This legal land description will be finalized after formal Land Survey Plats are completed.

Official federal government vehicles conducting monitoring or other legitimate governmental activities shall be allowed inside the closed areas.

SUPPLEMENTARY INFORMATION: On March 16, 2000, the Center for Biological Diversity, and others (Center) filed for injunctive relief in U.S. District Court, Northern District of California (court) against the Bureau of Land Management (BLM) alleging that the BLM was in violation of Section 7 of the Endangered Species Act (ESA) by failing to enter into formal consultation with the U.S. Fish and Wildlife Service (USFWS) on the effects of adoption of the California Desert Conservation Area Plan (CDCA Plan), as amended, upon threatened and endangered species. On August 25, 2000, the BLM acknowledged through a court stipulation that activities authorized, permitted, or allowed under the CDCA Plan may adversely affect threatened and endangered species, and that the BLM is required to consult with the USFWS to insure that adoption and implementation of the CDCA Plan is not likely to jeopardize the continued existence of threatened and endangered species or to result in the destruction or adverse modification of critical habitat of listed species.

Although BLM has received biological opinions on selected activities, consultation on the overall CDCA Plan is necessary to address the cumulative effects of all the activities authorized by the CDCA Plan. Consultation on the overall Plan is complex and the completion date is uncertain. Absent consultation on the entire Plan, the impacts of individual activities, when added together with the impacts of other activities in the desert are not known. The BLM entered into negotiations with plaintiffs regarding interim actions to be taken to provide protection for endangered and threatened species pending completion of the consultation on the CDCA Plan. Agreement on these interim actions avoided litigation of plaintiffs' request for injunctive relief and the threat of an injunction prohibiting all activities authorized under the Plan. These interim agreements have allowed BLM to continue to authorize appropriate levels of activities throughout the planning area during the lengthy consultation process while providing appropriate protection to the desert tortoise and other listed species in the short term. By taking interim actions as allowed under 43 CFR part 8364.1, BLM contributes to the conservation of endangered and threatened species in accordance with 7(a)(1) of the ESA. BLM also avoids making any irreversible or irretrievable commitment of resources which would foreclose any reasonable and prudent alternative measures which might be required as a result of the consultation on the CDCA plan in accordance with 7(d) of the ESA. In November 2001, the stipulation respecting Peirson's milk-vetch became effective. Parcel 1, as identified in this notice, is the Northern closure under the above stipulation. Parcel 2 is the Small Central closure; Parcel 3 is the Large Central closure; Parcel 4 is the Patton Valley closure, part of the Large Central closure; and Parcel 5 is the Southern closure as identified in the stipulation.

An Environmental Assessment (EA) has been prepared for this action. According to the EA, the five closure areas contain many identified high density colonies of Peirson's milk-vetch. About 50 percent of the Peirson's milk-vetch habitat will be protected from potential OHV impacts by these five closures. Closures of these areas will also provide increased protection for several wildlife species such as Colorado Desert fringed-toed lizard, Couch's spadefoot toad and several other species. In addition, the closures will protect cultural resources. Archaeological records indicate that these areas were prehistoric travel ways which also contained important plant and animal foods used by Native Americans.

The EA is available for public comment for a period of 15 days prior to the effective date. Please contact the El Centro Field Office for further information.

EFFECTIVE DATE: No sooner than July 16, 2001.

ADDRESSES: Written comments may be sent to the attention of Roxie Trost, BLM, El Centro Field Office, 1661 S. 4th Street, El Centro , CA 92243, telephone (760) 337-4400.

Dated: June 8, 2001.
James Wesley Abbott,
Associate State Director.

[FR Doc. 01-15243 Filed 6-14-01; 8:45 am]

BILLING CODE 4310-40-P